DEPARTMENT OF TRANSPORTATION

Office of the Secretary

Aviation Proceedings, Agreements Filed the Week Ending September 23, 2005

The following Agreements were filed with the Department of Transportation under sections 412 and 414 of the Federal Aviation Act, as amended (49 U.S.C. 1382 and 1384) and procedures governing proceedings to enforce these provisions. Answers may be filed within 21 days after the filing of the application.

Docket Number: OST-2005-22542.

Date Filed: September 21, 2005.

Parties: Members of the International Air Transport Association.

Subject: Mail Vote 456—Resolution 010w. TC3 Within South East Asia Special Passenger Amending Resolution between China (excluding Hong Kong SAR, Macao SAR) and Russia (in Asia).

Intended effective date: October 15, 2005.

Docket Number: OST-2005-22564.

Date Filed: September 23, 2005.

Parties: Members of the International Air Transport Association.

Subject:

TC1 Passenger Tariff Coordinating Conference Teleconference, July 25-27, 2005.

TC1 Longhaul (except between USA and Chile, Panama) Resolutions (Memo PTC1 0330).

TC1 Passenger Tariff Coordinating Conference Teleconference, July 25-27, 2005.

TC1 Areawide Resolutions (PTC1 0333).

Minutes: TC1 Teleconference, July 25-27, 2005 (Memo PTC1 338).

Tables: TC1 Longhaul specified fare table (Memo PTC1 0104).

Technical Correction: TC1 Passenger Tariff Coordinating Conference Teleconference, July 25-27, 2005.

TC1 Longhaul (except between USA and Chile, Panama) (Memo PTC1 0336).

Intended effective date: January 1, 2005.

Docket Number: OST-2005-22565.

Date Filed: September 23, 2005.

Parties: Members of the International Air Transport Association.

Subject:

TTC1 Passenger Tariff Coordinating Conference.

Teleconference, July 25-27, 2005.

TC1 Caribbean Resolutions (PTC1 0332).

Minutes: TC1 Teleconference, July 25-27, 2005 (Memo PTC1 338).

Tables: TC1 Caribbean specified fare table (Memo PTC1 0103).

Technical Correction: TC1 Caribbean specified fare table (Memo PTC1 0105).

Intended effective date: November 1, 2005.

Renee V. Wright,
Program Manager, Docket Operations, Federal Register Liaison.

[FR Doc. 05-20401 Filed 10-11-05; 8:45 am]

BILLING CODE 4910-62-P